DEPARTMENT OF EDUCATION

National Institute on Disability and Rehabilitation Research—Disability and Rehabilitation Research Projects and Centers Program—Disability and Rehabilitation Research Projects

AGENCY: Office of Special Education and Rehabilitative Services, Department of Education.

ACTION: Notice of final priority for a National Center for the Dissemination of Disability Research (NCDDR).

SUMMARY: The Assistant Secretary for Special Education and Rehabilitative Services announces one funding priority for the National Institute on Disability and Rehabilitation Research's (NIDRR) Disability and Rehabilitation Research Projects and Centers Program, Disability and Rehabilitation Research Projects (DRRP). The Assistant Secretary may use this priority for competitions in fiscal year (FY) 2005 and later years. We take this action to focus research attention on areas of national need. We intend this priority to improve rehabilitation services and outcomes for individuals with disabilities.

EFFECTIVE DATE: This priority is effective August 15, 2005.

FOR FURTHER INFORMATION CONTACT: Donna Nangle, U.S. Department of Education, 400 Maryland Avenue, SW., Room 6030, Potomac Center Plaza, Washington, DC 20202. Telephone: (202) 245-7462 or by e-mail: donna.nangle@ed.gov.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION:

Disability and Rehabilitation Research Projects (DRRP) Program

The purpose of the DRRP Program is to plan and conduct research, demonstration projects, training, and related activities to develop methods, procedures, and rehabilitation technology that maximize the full inclusion and integration into society, employment, independent living, family support, and economic and social self-sufficiency of individuals with disabilities, especially individuals with the most severe disabilities, and to improve the effectiveness of services authorized under the Rehabilitation Act of 1973, as amended. DRRPs carry out one or more of the following types of activities, as specified in 34 CFR 350.13 through 350.19: Research, development, demonstration, training, dissemination, utilization, and technical assistance.

An applicant for assistance under this program must demonstrate in its application how it will address, in whole or in part, the needs of individuals with disabilities from minority backgrounds (34 CFR 350.40(a)). The approaches an applicant may take to meet this requirement are found in 34 CFR 350.40(b).

Under the DRRP program, we define a utilization activity as relating the research findings to practical applications in planning, policymaking, program administration, and delivery of services to individuals with disabilities (34 CFR 350.17). We define a dissemination activity as the systematic distribution of information or knowledge through a variety of ways to potential users or beneficiaries (34 CFR 350.18). Additional information on the DRRP program can be found at: http://www.ed.gov/rschstat/research/pubs/res-program.html#DRRP.

Analysis of Comments and Changes

We published a notice of proposed priority (NPP) for this program in the Federal Register on May 5, 2005 (70 FR 23852). Page 23853 of the NPP included a background statement that described our rationale for proposing this priority.

In response to our invitation in the NPP, one party submitted comments on the proposed priority. An analysis of the comments and our responses follows.

Generally, we do not address technical and other minor changes and suggested changes we are not authorized to make under the applicable statutory authority.

Comment: The commenter noted that research and training must be of the highest quality, relevant, and useful. The commenter suggested that the priority would not ensure access to information on whether past efforts have been successful in meeting congressional intent or information that would enable people with disabilities, their families, and professionals to make recommendations for improving outcomes for persons with disabilities.

Discussion: The priority is intended to ensure that NIDRR constituencies will have ready access to high-quality, research-based information that has the potential to improve the lives of individuals with disabilities. NIDRR proposes to accomplish this through such means as facilitating evidence-based systematic reviews of disability and rehabilitation research and promoting the development and use of effective strategies for disseminating information to diverse populations.

Changes: None.

Comment: The commenter opposed the focus and implementation of this priority and stated that it will not support the NFI and that it is inconsistent with NIDRR's Long-range Plan.

Discussion: The project to be supported under this priority, along with several others, advances the goals of the NFI by helping to ensure that individuals with disabilities have access to research that meets high standards and has the potential for improving their lives. The project implements the Long-range Plan by ensuring that information disseminated is of high quality and is based on scientifically rigorous research and development.

Changes: None.

Comment: The commenter stated that, by focusing only on NIDRR research information, the priority will not provide information needed by people with disabilities.

Discussion: The priority does not limit applicants to focus only on NIDRR research in their research syntheses and related activities. Applicants may propose to expand their research synthesis and related activities to include other sources of information and the peer review process will evaluate the merits of each proposal.

Changes: None.

Comment: The commenter urged NIDRR to revise the scope of the priority to focus generically on research and dissemination from all publicly-funded sources and to include scanning and reporting of this research.

Discussion: The priority does not limit applicants to including only NIDRR research in their research syntheses and related activities. Scanning journal articles and negotiating permission to place them on a Web site is beyond the scope of this priority. Applicants may propose to expand their research synthesis and related activities to include other sources of information and the peer review process will evaluate the merits of each proposal.

Changes: None.

Comment: The commenter stated that the NCDDR will operate a Web site that is not readily accessible to people with intellectual disabilities.

Discussion: NIDRR agrees that Web site accessibility for people with intellectual disabilities is important. The priority does not limit applicants to addressing any particular type of accessibility. Applicants may propose to disseminate information in other accessible formats and the peer review process will evaluate the merits of each proposal.

Change: None.

Note: This notice does not solicit applications. In any year in which we choose to use this priority, we invite applications through a notice in the Federal Register. When inviting applications we designate the priority as absolute, competitive preference, or invitational. The effect of each type of priority follows:

Absolute priority: Under an absolute priority, we consider only applications that meet the priority (34 CFR 75.105(c)(3)).

Competitive preference priority: Under a competitive preference priority, we give competitive preference to an application by either (1) awarding additional points, depending on how well or the extent to which the application meets the competitive preference priority (34 CFR 75.105(c)(2)(i)); or (2) selecting an application that meets the competitive preference priority over an application of comparable merit that does not meet the priority (34 CFR 75.105(c)(2)(ii)).

Invitational priority: Under an invitational priority, we are particularly interested in applications that meet the invitational priority. However, we do not give an application that meets the invitational priority a competitive or absolute preference over other applications (34 CFR 75.105(c)(1)).

Note: NIDRR supports the goals of President Bush's New Freedom Initiative (NFI). The NFI can be accessed on the Internet at the following site: http://www.whitehouse.gov/infocus/newfreedom/.

This final priority is in concert with NIDRR's 1999-2003 Long-Range Plan (Plan). The Plan is comprehensive and integrates many issues relating to disability and rehabilitation research topics. While applicants will find many sections throughout the Plan that support potential research and dissemination to be conducted under the proposed priority, a specific reference is included for the priority presented in this notice. The Plan can be accessed on the Internet at the following site: http://www.ed.gov/rschstat/research/pubs/index.html.

Through the implementation of the NFI and the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings.

Priority

The Assistant Secretary for Special Education and Rehabilitative Services intends to fund a National Center for the Dissemination of Disability Research to serve as a lead center in the area of Knowledge Translation/Knowledge Dissemination and Utilization. This center will ensure that NIDRR constituencies have ready access to high-quality, research-based information that has the potential to improve the lives of individuals with disabilities. The reference to this priority may be found in the Plan, Chapter 8, Knowledge Dissemination. The center must—

(1) Identify standards, guidelines, and methods appropriate for developing evidence-based systematic reviews of disability and rehabilitation research;

(2) Serve as a technical assistance resource to NIDRR grantees to ensure that research studies will meet standards for inclusion in evidence-based systematic reviews;

(3) Develop partnerships with existing collaborations and registries to identify gaps and opportunities and to facilitate the systematic review of disability and rehabilitation research;

(4) Identify and promote the use of evidence-based reviews in topic areas developed in collaboration with NIDRR and its grantees;

(5) Identify, develop, and assess the effectiveness of strategies for dissemination of high quality information to diverse target populations; and

(6) Serve as a technical assistance resource to NIDRR grantees to ensure the use of effective strategies for dissemination of high quality information to diverse target populations.

Executive Order 12866

This notice of final priority (NFP) has been reviewed in accordance with Executive Order 12866. Under the terms of the order, we have assessed the potential costs and benefits of this regulatory action.

The potential costs associated with the NFP are those resulting from statutory requirements and those we have determined as necessary for administering this program effectively and efficiently.

In assessing the potential costs and benefits—both quantitative and qualitative—of this NFP, we have determined that the benefits of the final priority justify the costs.

Applicable Program Regulations: 34 CFR part 350.

Electronic Access to This Document

You may view this document, as well as all other Department of Education documents published in the Federal Register, in text or Adobe Portable Document Format (PDF) on the Internet at the following site: http://www.ed.gov/news/fedregister

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.133A, Disability Rehabilitation Research Project.)
Program Authority: 29 U.S.C. 762(g) and 764(a).
Dated: July 12, 2005.
John H. Hager,
Assistant Secretary for Special Education and Rehabilitative Services.

[FR Doc. 05-13997 Filed 7-14-05; 8:45 am]

BILLING CODE 4000-01-P